DEPARTMENT OF JUSTICE

Notice of Lodging of Settlement Agreement Under the Comprehensive Environmental Response, Compensation and Liability Act and Chapter 11 of the United States Bankruptcy Code

Notice is hereby given that on September 10, 2008, a proposed Settlement Agreement (“Agreement”) in In re Shapes/Arch Holdings LLC et al., Case No. 08-14631(GMB) (Bankr. D.N.J.), was lodged with the United States Bankruptcy Court for the District of New Jersey. The Agreement was entered into by the United States, on behalf of the United States Environmental Protection Agency (“EPA”), and Shapes/Arch Holdings LLC and its subsidiaries, Shapes LLC, Delair LLC, Accu-Weld LLC, and Ultra LLC (collectively the “Debtors”). The Agreement relates to liabilities of the Debtors under the Comprehensive Environmental Response, Compensation and Liability Act of 1980, 42 U.S.C. 9601 et seq. (“CERCLA”). The Agreement provides that the Debtors will make a payment to the United States in a total amount of $811,924, representing the following amounts for the following Superfund sites: The Swope Oil Site in Pennshauken, NJ—$375,000, the D'Imperio Superfund Site in Hamilton Township, NJ—$149,506, the Ewan Superfund Site in Shamong Township, NJ—$62,418, and the Lightman Drum Company Site in Winslow Township, NJ—$225,000. The Agreement also covers two additional sites—the Chemical Control Corporation Site in Elizabeth, NJ and the Berks Associates/Douglassville Disposal Site in Douglassville, PA—for no payment amount, as a result of prior settlements for those sites. Finally, the Agreement provides that the Puchack Wellfield Site in Pennshauken, NJ will be treated as a discharged site under Section 1141 of the Bankruptcy Code, 11 U.S.C. 1141.

For a period of 30 days from the date of this publication, the Department of Justice will receive comments relating to the Agreement. Comments should be addressed to the Assistant Attorney General, Environment and Natural Resources Division, and either e-mailed to pubcomment-ees.enrd@usdoj.gov or mailed to P.O. Box 7611, U.S. Department of Justice, Washington, DC 20044, and should refer to In re Shapes/Arch Holdings LLC et. al., Case No. 08-14631(GMB) (Bankr. D.N.J.) and D.J. Ref. No. 90-11-3-09456. A copy of the comments should be sent to Donald G. Frankel, Department of Justice, Environmental Enforcement Section, One Gateway Center, Suite 616, Newton, MA 02458 or e-mailed to him at donald.frankel@usdoj.gov.

The Agreement may be examined at the Office of the United States Attorney, District of New Jersey, 970 Broad Street, 7th Floor, Newark, N.J. 07102 (contact Anthony Labruna at 973-645-2926) or at the offices of EPA Region 2, 290 Broadway, New York, NY 10007-1866 (contact Michael J. van Itallie at 212-637-3151). During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $5.00 (25 cents per page reproduction cost) payable to the U.S. Treasury (if the request is by fax or e-mail, forward a check to the Consent Decree library at the address stated above).

Maureen M. Katz,
Assistant Section Chief, Environmental Enforcement Section, Environment and Natural Resources Division.

[FR Doc. E8-22134 Filed 9-22-08; 8:45 am]

BILLING CODE 4410-15-P